DEPARTMENT OF TRANSPORTATION

Office of the Secretary

Aviation Proceedings, Agreements Filed During the Week Ending November 23, 2001

The following Agreements were filed with the Department of Transportation under provisions of 49 U.S.C. Sections 412 and 414. Answers may be filed within 21 days after the filing of the applications.

Docket Number: OST-2001-11027.

Date Filed: November 19, 2001.

Parties: Members of the International Air Transport Association.

Subject:

Telex Mail Vote A105 dated October 2, 2001

Resolution 832 (to defer implementation of the weekly remittance procedures in Malaysia until 1 April 2002)

Telex dated November 6, 2001—Declaration of Approval

Intended effective date: 23 October 2001.

Docket Number: OST-2001-11035.

Date Filed: November 20, 2001.

Parties: Members of the International Air Transport Association.

Subject:

PTC23 AFR-TC3 0136 dated 29 October 2001

Mail Vote 0177—TC23/TC123 Africa-Japan/Korea

Expedited Resolution 010k

PTC23 AFR-TC3 0147 dated 23 November 2001 (Affirmative)

PTC23 AFR-TC3 0137 dated 29 October 2001

Mail Vote 0178—TC23/TC123 Africa-South East Asia Expedited

Resolution 010L

PTC23 AFR-TC3 00148 dated 23 November 2001 (Affirmative)

Intended effective date: 1 December 2001.

Docket Number: OST-2001-11044.

Date Filed: November 23, 2001.

Parties: Members of the International Air Transport Association.

Subject:

PTC COMP 0879 dated 23 November 2001

Mail Vote 182—Resolution 010n

TC2/12/23/123 Special Passenger Amending Resolution from Latvia

Intended effective date: 1 February 2002.

Docket Number: OST-2001-11045.

Date Filed: November 23, 2001.

Parties: Members of the International Air Transport Association.

Subject:

PTC23 ME-TC3 0128 dated 16 November 2001

(Mail Vote 172)

TC23/TC123 Middle East-South East Asia Resolutions r1-r15

MINUTES—PTC23 ME-TC3 0124 dated 30 October 2001 filed with Docket OST-2001-10978

TABLES—PTC23 ME-TC3 Fares 0057 dated 16 November 2001

Intended effective date: 1 April 2002.

Dorothy Y. Beard,
Federal Register Liaison.

[FR Doc. 01-30421 Filed 12-7-01; 8:45 am]

BILLING CODE 4910-62-P